SMALL BUSINESS ADMINISTRATION

Senior Executive Service and Senior Level: Performance Review Board Members

AGENCY: U.S. Small Business Administration.

ACTION: Notice of Performance Review Board Appointment.

5 U.S.C. 4314 (c)(4) and 5 CFR 430.311(a)(4) requires each agency to publish a notification of the appointment of individuals who will serve as members of that agency's Performance Review Board (PRB). The SBA hereby provides notice that the membership of its PRB, previously published in the Federal Register on November 14, 2024, is no longer in effect.

The following individuals have been designated to serve on the PRB for the U.S. Small Business Administration.

Members

1. Robin Wright (Chair), Chief Operating Officer, Office of the Administrator

2. Benjamin Grayson, Deputy Chief of Staff, Office of the Administrator

3. John Klein, Associate General Counsel for Procurement Law, Office of General Counsel

4. Susan Streich, Director of Credit Risk Management, Office of Capital Access

5. Thomas Morris, Director of Patient Capital Investments, Office of Investment and Innovation

Kelly Loeffler,
Administrator.

[FR Doc. 2025-08452 Filed 5-13-25; 8:45 am]

BILLING CODE P